ENVIRONMENTAL PROTECTION AGENCY

40 CFR Parts 52 and 81

[Docket #WA-01-006; FRL-7267-9]

Approval and Promulgation of Air Quality Implementation Plans; State of Washington; Yakima Carbon Monoxide Redesignation to Attainment and Designation of Areas for Air Quality Planning Purposes

AGENCY: Environmental Protection Agency (EPA).

ACTION: Proposed rule.

SUMMARY: On September 26, 2001, the State of Washington submitted a request to redesignate the Yakima “not classified” carbon monoxide (CO) nonattainment area to attainment for the CO National Ambient Air Quality Standard (NAAQS). The State also submitted a CO maintenance plan for Yakima. In this action, EPA is proposing to approve the Yakima CO redesignation request and the maintenance plan. In the Final Rules Section of this Federal Register, EPA is approving the State's redesignation request and State Implementation Plan (SIP) revision, involving the maintenance plan, as a direct final rule without prior proposal because the Agency views the redesignation and SIP revision as noncontroversial and anticipates no adverse comments. A detailed rationale for the approval is set forth in the direct final rule. If no adverse comments are received in response to this proposed rule, no further activity is contemplated in relation to this rule. If EPA receives adverse comments, the direct final rule will be withdrawn and all public comments received will be addressed in a subsequent final rule based on this proposed rule. EPA will not institute a second comment period on this action. Any parties interested in commenting on this action should do so at this time.

DATES: Comments on this proposed rule must be received in writing by December 2, 2002.

ADDRESSES: Written comments may be mailed to: Steven K. Body, Office of Air Quality, EPA Region 10, 1200 Sixth Ave., Seattle, WA 98101.

Copies of the documents relevant to this action are available for public inspection between 8 a.m. and 4 p.m., Monday through Friday at the following office: United States Environmental Protection Agency, Region 10, Office of Air Quality, 1200 Sixth Ave., Seattle WA 98101.

FOR FURTHER INFORMATION CONTACT: Steven K. Body, Office of Air Quality, EPA Region10, 1200 Sixth Ave. Seattle WA 98101. Telephone at (206) 553-0782.

SUPPLEMENTARY INFORMATION: For additional information see the direct final rule, of the same title, published in the rules section of this Federal Register.

Dated: August 12, 2002.
Ronald A. Kreizenbeck,
Acting Regional Administrator, Region 10.

[FR Doc. 02-27834 Filed 10-31-02; 8:45 am]

BILLING CODE 6560-50-P